DEPARTMENT OF COMMERCE

Foreign-Trade Zones Board

[B-11-2016]

Foreign-Trade Zone (FTZ) 230—Piedmont Triad Area, North Carolina; Authorization of Production Activity; United Chemi-Con, Inc. (Aluminum Electrolytic Capacitors); Lansing, North Carolina

On February 26, 2016, the Piedmont Triad Partnership, grantee of FTZ 230, submitted a notification of proposed production activity to the FTZ Board on behalf of United Chemi-Con, Inc., within Subzone 230A, in Lansing, North Carolina.

The notification was processed in accordance with the regulations of the FTZ Board (15 CFR part 400), including notice in the Federal Register inviting public comment (81 FR 11512-11513, March 4, 2016). The FTZ Board has determined that no further review of the activity is warranted at this time. The production activity described in the notification is authorized, subject to the FTZ Act and the Board's regulations, including Section 400.14.

Dated: June 27, 2016.
Elizabeth Whiteman,
Acting Executive Secretary.

[FR Doc. 2016-15626 Filed 6-29-16; 8:45 am]

BILLING CODE 3510-DS-P